DEPARTMENT OF TRANSPORTATION

Office of the Secretary

Notice of Applications for Certificates of Public Convenience and Necessity and Foreign Air Carrier Permits Filed Under Subpart B (Formerly Subpart Q) During the Week Ending December 10, 2004

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2004-19848.

Date Filed: December 6, 2004.

Due Date for Answers, Conforming Applications, or Motion to Modify Scope: December 27, 2004.

Description: Application of Starair (Ireland) Limited requesting a Foreign Air Carrier Permit to engage in foreign charter air transportation of persons, property and mail between a point or points in Ireland and a point or points in the United States, including service via intermediate stops, and to engage in other Fifth Freedom charter operations in foreign air transportation.

Docket Number: OST-2004-19849.

Date Filed: December 6, 2004.

Due Date for Answers, Conforming Applications, or Motion to Modify Scope: December 27, 2004.

Description: Application of Starair (Ireland) Ltd., requesting an exemption to permit it to operate foreign charter combination air transportation between a point or points in Ireland and a point or points in the United States, including service via intermediate stops, and to conduct Fifth Freedom combination charter operations in foreign air transportation.

Docket Number: OST-2004-19850.

Date Filed: December 6, 2004.

Due Date for Answers, Conforming Applications, or Motion to Modify Scope: December 27, 2004.

Description: Application of Air Comet S.A. d/b/a Air Plus Comet, requesting a five year permit to engage in charter foreign air transportation of persons, property, and mail between points in the Kingdom of Spain and the United States.

Docket Number: OST-2004-19877.

Date Filed: December 8, 2004.

Due Date for Answers, Conforming Applications, or Motion to Modify Scope: December 29, 2004.

Description: Application of GoJet Airlines LLC requesting a certificate of public convenience and necessity to engage in interstate and foreign scheduled air transportation of persons, property and mail.

Renee V. Wright,
Supervisory Dockets Officer, Alternate Federal Register Liaison.

[FR Doc. 04-28402 Filed 12-27-04; 8:45 am]

BILLING CODE 4910-62-P